DEPARTMENT OF ENERGY

Federal Energy Regulatory Commission

[Project No. 14608-000]

Idaho Water Resources Board; Notice of Preliminary Permit Application Accepted for Filing and Soliciting Comments, Motions To Intervene, and Competing Applications

On March 24, 2014, the Idaho Water Resource Board filed an application for a preliminary permit, pursuant to section 4(f) of the Federal Power Act (FPA), proposing to study the feasibility of the Weiser-Galloway Hydroelectric and Water Storage Project (Weiser-Galloway Project or project) to be located on Weiser River near Weiser, Idaho. The sole purpose of a preliminary permit, if issued, is to grant the permit holder priority to file a license application during the permit term. A preliminary permit does not authorize the permit holder to perform any land-disturbing activities or otherwise enter upon lands or waters owned by others without the owners' express permission.

The proposed project would consist of the following new facilities: (1) A 2,480-foot-long, 285-foot-high earthfill embankment dam with a single ungated emergency spillway and low-level outlet works; (2) a 6,719-acre reservoir with a total storage capacity of 752,500 acre-feet at a normal maximum operating elevation of 2,470 feet mean sea level; (3) a free-standing water intake tower in the reservoir; (4) a large or multiple 1,500-foot-long composite steel penstock in reinforced concrete; (5) a 75-foot by 150-foot powerhouse containing four Francis turbine/generation units rated for a total installed capacity of 60 megawatts; (6) a 50 to 100-foot-long open channel tailrace returning water to the Weiser River; (7) a 10-mile-long, 69-kilovolt transmission line extending from the powerhouse to an interconnection with an existing transmission line owned by the Idaho Power Company; and (8) appurtenant facilities. The estimated annual generation of the Weiser-Galloway Project would be 365 gigawatt-hours.

Applicant Contact: Brian Patton, Idaho Water Resources Board, 322 East Front St., P.O. Box 83720, Boise, ID 83720.

FERC Contact: Ryan Hansen, phone: (202) 502-8074, or email ryan.hansen@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14608-000.

More information about this project, including a copy of the application, can be viewed or printed on the “eLibrary” link of Commission's Web site at http://www.ferc.gov/docs-filing/elibrary.asp. Enter the docket number (P-14608) in the docket number field to access the document. For assistance, contact FERC Online Support.

Dated: July 17, 2014.
Kimberly D. Bose,
Secretary.

[FR Doc. 2014-17359 Filed 7-23-14; 8:45 am]

BILLING CODE 6717-01-P